DEPARTMENT OF COMMERCE

International Trade Administration

[A-588-046]

Polychloroprene Rubber From Japan: Final Results of the Expedited Sunset Review of the Antidumping Duty Finding

AGENCY: Import Administration, International Trade Administration, Department of Commerce.

ACTION: Notice of final results of the expedited sunset review of the antidumping duty finding: polychoroprene rubber from Japan.

SUMMARY: On July 1, 2004, the Department of Commerce (“the Department”) initiated a sunset review of the antidumping duty finding on certain polychloroprene rubber from Japan.¹ On the basis of the notice of intent to participate and substantive comments filed on behalf of the domestic interested party, and inadequate response (in this case waiver of participation) from respondent interested parties, the Department determined to conduct an expedited sunset review of the antidumping duty finding pursuant to section 751(c)(3)(B) of the Tariff Act of 1930, as amended (“the Act”) and section 351.218(e)(1)(ii)(C)(2) of the Department's regulations.² As a result of this sunset review, the Department determined that revocation of the antidumping duty finding would be likely to lead to continuation or recurrence of dumping at the levels listed below in the section entitled “Final Results of Review”.

¹ See Initiation of Five-Year (“Sunset”) Reviews, 69 FR 39905 (July 1, 2004) (“Notice of Initiation”).

² The Department received a statement of waiver of participation of the five-year sunset review from Showa Denko L.L. (“SDK”). See letter to James J. Jochum, Assistant Secretary for Import Administration, July 30, 2004.

EFFECTIVE DATE: November 4, 2004.

FOR FURTHER INFORMATION CONTACT: Martha V. Douthit, Office of Policy, Import Administration, International Trade Administration, U.S. Department of Commerce, 14th Street & Constitution Avenue, NW., Washington, DC 20230; telephone: (202) 482-5050.

SUPPLEMENTARY INFORMATION:

Background

On July 1, 2004, the Department initiated a sunset review of the antidumping duty finding on polychloroprene rubber from Japan in accordance with section 751(c) of the Act. See Notice of Initiation, 69 FR 39905 (July 1, 2004).

The Department received a Notice of Intent to Participate within the applicable deadline specified in section 351.218(d)(1)(i) of the Department's regulations on behalf of DuPont Dow Elastomers L.L.C. (“DDE”).³ DDE claimed interested party status as a domestic producer of polychloroprene rubber from Japan.

³ DDE stated that it succeeds E.I. DuPont De Nemours & Company (“DuPont”), Petitioner in this antidumping proceeding. DuPont was the original Petitioner in the original investigation of polychloroprene rubber from Japan.

The Department received complete substantive responses from the domestic interested party within the 30-day deadline specified in the Department's regulations under section 351.218(d)(3)(i). However, the Department did not receive adequate responses from respondent interested parties to this proceeding. As a result, pursuant to section 751(c)(3)(B) of the Act and 19 CFR 351.218(e)(1)(ii)(C)(2), the Department conducted an expedited sunset review of this antidumping duty finding.

Scope of the Antidumping Duty Finding

Imports covered by this sunset review are shipments of polychloroprene rubber, an oil resistant synthetic rubber also known as polymerized chlorobutadiene or neoprene, currently classifiable under items 4002.42.00, 4002.49.00, 4003.00.00, 4462.15.21 and 4462.00.00 of the Harmonized Tariff Schedule (“HTS”). The HTS item numbers are provided for convenience and customs purposes. The written descriptions remain dispositive.

Analysis of Comments Received

All issues raised in this sunset review are addressed in the “Issues and Decision Memorandum (“Decision Memo”) from Ronald K. Lorentzen, Acting Director, Office of Policy, Import Administration, to James J. Jochum, Assistant Secretary for Import Administration, dated October 29, 2004, which is hereby adopted by this notice. The issues discussed in the Decision Memo include the likelihood of continuation or recurrence of dumping and the magnitude of the margin likely to prevail if the antidumping duty finding were revoked. Parties can find a complete discussion of all issues raised in this sunset review and the corresponding recommendations in this public memorandum, which is on file in room B-099 of the main Commerce Building.

In addition, a complete version of the Decision Memo can be accessed directly on the Web at http://ia.ita.doc.gov/frn, under the heading “November 2004”. The paper copy and electronic version of the Decision Memo are identical in content.

Final Results of Review

The Department determines that revocation of the antidumping duty finding on polychloroprene rubber from Japan would be likely to lead to continuation or recurrence of dumping at the following weighted-average margins:

Manufacturers/producers/exporter's | Weighted- average margin (percent)
Denki Kaguku Kogyo K.K | 0.00
Denki Kaguku Kogyo, K.K./Hoei Sangyo Co., Ltd | 55.00
Suzugo Corporation | 55.00
All Others | 55.00

This notice also serves as the only reminder to parties subject to administrative protective orders (“APO”) of their responsibility concerning the return or destruction of proprietary information disclosed under APO in accordance with 19 CFR 351.305. Timely notification of the return or destruction of APO materials or conversion to judicial protective order is requested. Failure to comply with the regulations and terms of an APO is a violation which is subject to sanction.

We are issuing and publishing the results and notice in accordance with sections 751(c), 752, and 777(i)(1) of the Act.

Dated: October 29, 2004.
James J. Jochum,
Assistant Secretary for Import Administration.

[FR Doc. E4-3014 Filed 11-3-04; 8:45 am]

BILLING CODE 3510-DS-P